SECURITIES AND EXCHANGE COMMISSION

[Release No. 34-56513/September 24, 2007]

Securities Exchange Act of 1934; Order Granting Registration of Standard & Poor's Ratings Services as a Nationally Recognized Statistical Rating Organization

Standard & Poor's Ratings Services, a credit rating agency, furnished to the Securities and Exchange Commission (“Commission”) an application for registration as a nationally recognized statistical rating organization (“NRSRO”) under Section 15E of the Securities Exchange Act of 1934 (“Exchange Act”) for the classes of credit ratings described in clauses (i) through (v) of Section 3(a)(62)(B) of the Exchange Act. The Commission finds that the application furnished by Standard & Poor's Ratings Services is in the form required by Exchange Act Section 15E, Exchange Act Rule 17g-1 (17 CFR 240.17g-1), and Form NRSRO (17 CFR 249b.300) and contains the information described in subparagraph (B) of Section 15E(a)(1) of the Exchange Act.

Based on the application, the Commission finds that the requirements of Section 15E of the Exchange Act are satisfied.

Accordingly,

It is ordered, under paragraph (a)(2)(A) of Section 15E of the Exchange Act, that the registration of Standard & Poor's Ratings Services with the Commission as an NRSRO under Section 15E of the Exchange Act for the classes of credit ratings described in clauses (i) through (v) of Section 3(a)(62)(B) of the Exchange Act is granted.

By the Commission.
Nancy M. Morris,
Secretary.

[FR Doc. E7-19175 Filed 9-27-07; 8:45 am]

BILLING CODE 8010-01-P